DEPARTMENT OF TRANSPORTATION

Federal Aviation Administration

14 CFR Part 39

[Docket No. FAA-2018-0907; Product Identifier 2018-NM-118-AD]

RIN 2120-AA64

Airworthiness Directives; Airbus SAS Airplanes

AGENCY: Federal Aviation Administration (FAA), DOT.

ACTION: Notice of proposed rulemaking (NPRM).

SUMMARY: We propose to supersede Airworthiness Directive (AD) 2017-07-05, which applies to all Airbus SAS Model A300 series airplanes; and Model A300 B4-600, B4-600R, and F4-600R series airplanes, and Model A300 C4-605R Variant F airplanes (collectively called Model A300-600 series airplanes). AD 2017-07-05 requires repetitive detailed visual inspections of the main landing gear (MLG) leg components and replacement of the MLG leg if cracked components are found. Since we issued AD 2017-07-05, further investigation revealed that overhaul of the MLG does not alleviate the need for inspecting the MLG hinge arm/barrel pin for cracking. This proposed AD would retain the requirements of AD 2017-07-05 and remove the credit for doing a MLG overhaul in lieu of the initial inspection of the MLG leg components. We are proposing this AD to address the unsafe condition on these products.

DATES: We must receive comments on this proposed AD by December 21, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195.

Examining the AD Docket

You may examine the AD docket on the internet at http://www.regulations.gov by searching for and locating Docket No. FAA-2018-0907; or in person at Docket Operations between 9 a.m. and 5 p.m., Monday through Friday, except Federal holidays. The AD docket contains this NPRM, the regulatory evaluation, any comments received, and other information. The street address for Docket Operations (phone 800-647-5527) is in the ADDRESSES section. Comments will be available in the AD docket shortly after receipt.

FOR FURTHER INFORMATION CONTACT: Dan Rodina, Aerospace Engineer, International Section, Transport Standards Branch, FAA, 2200 South 216th St., Des Moines, WA 98198; telephone and fax 206-231-3225.

SUPPLEMENTARY INFORMATION:

Comments Invited

We invite you to send any written relevant data, views, or arguments about this proposal. Send your comments to an address listed under the ADDRESSES section. Include “Docket No. FAA-2018-0907; Product Identifier 2018-NM-118-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued AD 2017-07-05, Amendment 39-18843 (82 FR 16101, April 3, 2017) (“AD 2017-07-05”), for all Airbus SAS Model A300 series airplanes; and Model A300-600 series airplanes. AD 2017-07-05 requires repetitive detailed visual inspections of the MLG leg components and replacement of the MLG leg if cracked components are found. AD 2017-07-05 resulted from reports of cracks in MLG leg components. We issued AD 2017-07-05 to address cracking of certain components in the MLG leg, which could result in a MLG collapse, and consequent damage to the airplane and injury to the airplane occupants.

Actions Since AD 2017-07-05 Was Issued

Since we issued AD 2017-07-05, further investigation revealed that overhaul of the MLG does not alleviate the need for inspecting the MLG hinge arm/barrel pin for cracking. This proposed AD would retain the requirements of AD 2017-07-05 and remove the credit for substituting MLG overhaul in lieu of the initial inspection of the MLG leg components.

The European Aviation Safety Agency (EASA), which is the Technical Agent for the Member States of the European Union, has issued EASA AD 2018-0170, dated August 6, 2018 (referred to after this as the Mandatory Continuing Airworthiness Information, or “the MCAI”), to correct an unsafe condition for all Airbus SAS Model A300 series airplanes; and Model A300-600 series airplanes. The MCAI states:

Two cases were reported of finding a cracked MLG hinge arm/barrel pin, one was discovered in service during a maintenance task and the other one was identified during MLG overhaul.

This condition, if not detected and corrected, could lead to MLG collapse, possibly resulting in damage to the aeroplane and injury to occupants.

To address this potential unsafe condition, Airbus issued [Alert Operators Transmission] AOT A32W008-16 (original issue) to provide instructions for detailed visual inspections (DET) to detect cracks and EASA issued AD 2016-0058 accordingly [which corresponds to FAA AD 2017-07-05], requiring repetitive DET of the affected parts and, depending on findings, replacement of the affected MLG leg.

Since that AD was issued, further investigation results highlighted that, the overhaul of the MLG cannot alleviate the inspection need of the hinge arm/barrel pin.

For the reasons described above, this [EASA] AD retains the requirement of EASA AD 2016-0058, which is superseded, removing the credit of MLG overhaul for the first inspection of the pin.

You may examine the MCAI in the AD docket on the internet at http://www.regulations.gov by searching for and locating Docket No. FAA-2018-0907.

Related Service Information Under 1 CFR Part 51

Airbus has issued Alert Operators Transmission (AOT) A32W008-16, Rev 01, dated July 30, 2018, including Appendixes 1 through 4. This service information describes procedures for inspecting the MLG hinge arm/barrel pin for cracking, and replacement of the MLG leg if cracking is detected. This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are proposing this AD because we evaluated all the relevant information and determined the unsafe condition described previously is likely to exist or develop on other products of the same type design.

Proposed Requirements of this NPRM

This proposed AD would retain all requirements of AD 2017-07-05. This proposed AD would require repetitive detailed visual inspections of the MLG leg components for cracking and replacement of the MLG leg if cracked components are found. This proposed AD also would require reporting the findings of each inspection by sending the inspection results to Airbus SAS.

Costs of Compliance

We estimate that this proposed AD affects 128 airplanes of U.S. registry. We estimate the following costs to comply with this proposed AD:

Estimated Costs for Required Actions
Labor cost | Parts cost | Cost per product | Cost on U.S. operators
1 work-hour × $85 per hour = $85, per inspection cycle | $0 | $85, per inspection cycle | $10,880, per inspection cycle.

Estimated Costs of On-Condition Actions
Labor cost | Parts cost | Cost per product
20 work-hours × $85 per hour = $1,700 per MLG | $3,400,000 per MLG | $3,401,700 per MLG.

We estimate that it would take about 1 work-hour per product to comply with the reporting requirement in this proposed AD. The average labor rate is $85 per hour. Based on these figures, we estimate the cost of reporting the inspection results on U.S. operators to be $85 per product.

The new requirements of this proposed AD add no additional economic burden.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979),

3. Will not affect intrastate aviation in Alaska, and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-07-05, Amendment 39-18843 (82 FR 16101, April 3, 2017), and adding the following new AD:

Airbus SAS: Docket No. FAA-2018-0907; Product Identifier 2018-NM-118-AD.

(a) Comments Due Date

We must receive comments by December 21, 2018.

(b) Affected ADs

This AD replaces AD 2017-07-05, Amendment 39-18843 (82 FR 16101, April 3, 2017) (“AD 2017-07-05”).

(c) Applicability

This AD applies to Airbus SAS airplanes, certificated in any category, all manufacturer serial numbers, identified in paragraphs (c)(1) through (c)(5) of this AD.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(d) Subject

Air Transport Association (ATA) of America Code 32, Landing Gear.

(e) Reason

This AD was prompted by reports of cracks in main landing gear (MLG) leg components. We are issuing this AD to address cracking of certain components in the MLG leg, which could result in a MLG collapse, and consequent damage to the airplane and injury to the airplane occupants.

(f) Compliance

Comply with this AD within the compliance times specified, unless already done.

(g) Definition

For the purpose of this AD an affected part is an MLG hinge arm/barrel pin having part number (P/N) C66441-(X) and P/N C65543-(X), where the X is representing a variable number.

(h) Repetitive Inspections

At the applicable compliance time specified in figure 1 to paragraph (h) of this AD, and thereafter at intervals not to exceed 100 flight cycles, accomplish a detailed visual inspection of the internal diameter of each affected MLG hinge arm/barrel pin for cracking, in accordance with the instructions of Airbus Alert Operators Transmission (AOT) A32W008-16, Rev 01, dated July 30, 2018, including Appendixes 1 through 4, (“AOT 32W008-16, Rev 01”).

(i) Corrective Action

If any crack is found during any inspection required by paragraph (h) of this AD: Before further flight, replace the MLG leg in accordance with the instructions of Airbus AOT 32W008-16, Rev 01. Replacement of a MLG leg does not constitute terminating action for the repetitive inspections required by paragraph (h) of this AD.

(j) Reporting

At the applicable time specified in paragraph (j)(1) or (j)(2) of this AD, report the inspection results required by paragraph (h) of this AD to Airbus SAS. This can be accomplished using the instructions of Airbus AOT 32W008-16, Rev 01.

(1) If the inspection was done on or after the effective date of this AD: Submit the report within 30 days after each inspection required by paragraph (h) of this AD.

(2) If the inspection was done before the effective date of this AD: Submit the report within 30 days after the effective date of this AD.

(k) Credit for Previous Actions

This paragraph provides credit for the initial inspection required by paragraph (h) of this AD and corrective actions required by paragraph (i) of this AD, if those actions were performed before the effective date of this AD using the instructions of Airbus AOT A32W008-16, dated February 25, 2016, including Appendices 1 through 4.

(l) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES 200.

(m) Related Information

(1) Refer to Mandatory Continuing Airworthiness Information (MCAI) EASA AD 2018-0170, dated August 6, 2018, for related information. This MCAI may be found in the AD docket on the internet at http://www.regulations.gov by searching for and locating Docket No. FAA-2018-0907.

(2) For more information about this AD, contact Dan Rodina, Aerospace Engineer, International Section, Transport Standards Branch, FAA, 2200 South 216th St., Des Moines, WA 98198; telephone and fax 206-231-3225.

(3) For service information identified in this AD, contact Airbus SAS, Airworthiness Office-EAW, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195.

Issued in Des Moines, Washington, on October 24, 2018.
Michael Kaszycki,
Acting Director, System Oversight Division, Aircraft Certification Service.

[FR Doc. 2018-24020 Filed 11-5-18; 8:45 am]

BILLING CODE 4910-13-P